DEPARTMENT OF THE TREASURY

Internal Revenue Service

26 CFR Part 1

[TD 9630]

RIN 1545-BK71

Use of Differential Income Stream as an Application of the Income Method and as a Consideration in Assessing the Best Method; Correction

AGENCY: Internal Revenue Service (IRS), Treasury.

ACTION: Correcting amendment.

SUMMARY: This document contains corrections to final regulations and removal of temporary regulations (TD 9630) that were published in the Federal Register on Tuesday, August 27, 2013 (78 FR 52854). The final regulations implement the use of the differential income stream as a consideration in assessing the best method in connection with a cost sharing arrangement and as a specified application of the income method.

DATES: This correction is effective October 22, 2013, and is applicable beginning on or after December 19, 2011.

FOR FURTHER INFORMATION CONTACT: Mumal R. Hemrajani, at (202) 622-3800 (not a toll free number).

SUPPLEMENTARY INFORMATION:

Background

The final regulations and removal of temporary regulations (TD 9630) that are the subject of this correction are under section 482 of the Internal Revenue Code.

Need for Correction

As published, the final regulations and removal of temporary regulations (TD 9630) contains an error that may prove to be misleading and is in need of clarification.

List of Subjects in 26 CFR Part 1

Income taxes, Reporting and recordkeeping requirements.

Correction of Publication

Accordingly, 26 CFR part 1 is corrected by making the following correcting amendment:

PART 1—INCOME TAXES

Paragraph 1. The authority citation for part 1 continues to read in part as follows:

Authority: 26 U.S.C. 7805 * * *

Par. 2. Section 1.482-7 is amended by revising the last sentence of paragraph (g)(4)(vi)(F)(2) to read as follows:

§ 1.482-7 Methods to determine taxable income in connection with a cost sharing arrangement.

* * * * *

(g) * * *

(4) * * *

(vi) * * *

(F) * * *

(2) * * * See Example 8 of paragraph (g)(4)(viii) of this section.

* * * * *

Martin V. Franks,
Chief, Publications and Regulations Branch, Legal Processing Division, Associate Chief Counsel (Procedure and Administration).

[FR Doc. 2013-24537 Filed 10-21-13; 8:45 am]

BILLING CODE 4830-01-P